DEPARTMENT OF AGRICULTURE

Forest Service

Davis Fire Recovery Project, Deschutes National Forest, Deschutes and Klamath Counties, OR

AGENCY: Forest Service, USDA.

ACTION: Notice of intent to prepare an environmental impact statement.

SUMMARY: The USDA, Forest Service, will prepare an environmental impact statement (EIS) on a proposed action to salvage dead and severely damaged trees, utilize small diameter forest products, and plant trees to assist in the restoration of the area burned in the Davis Fire on the Crescent Ranger District of the Deschutes National Forest. The Davis Fire, located about 10 miles west of La Pine, Oregon, burned approximately 21,000 acres, entirely on National Forest System Lands. The alternatives will include the proposed action, no action, and additional alternatives that respond to issues generated during the scoping process. The agency will give notice of the full environmental analysis and decision making process so interested and affected people may participate and contribute to the final decision.

DATES: Comments concerning the scope of the analysis must be received by October 15, 2003.

ADDRESSES: Send written comments to Phil Cruz, District Ranger, Crescent Ranger District, P.O. Box 208, Crescent, Oregon 97733.

FOR FURTHER INFORMATION CONTACT: Chris Mickle, Environmental Coordinator, P.O. Box 208, Crescent, Oregon, 97733, phone 541 433-3200. E-mail emickle@fs.fed.us.

SUPPLEMENTARY INFORMATION: Purpose and Need. More than half of the fire occurred within the Davis Late Successional Reserve (LSR) and about 7,700 acres of that was at high or moderate intensity. The Northwest Forest Plan states “Late Successional Reserves are to be managed to protect and enhance conditions of late-successional and old-growth forest ecosystems, which serve as habitat for late-successional and old-growth related species * * *” (C-11). The purpose of entering the fire area within the Davis LSR is to facilitate late-successional habitat recovery.

Following catastrophic fire three management activities can improve habitat recovery. These activities are—(1) Reforestation and Regeneration—Natural regeneration of conifer species after a fire is dependent upon seed disperal from healthy trees. In many areas, particularly within the interior areas of the fire, adjacent seed sources are no longer available. In order to expedite recovery,these areas may require reforestation by planting. Ponderosa pine and Douglas-fir are the main species desired within most of the project area. Replanting with the appropriate species will ensure timely establishment of species desirable for long-term objectives. The lodgepole pine flat area south of Davis Lake would see natural regeneration over time, but there is a need to accelerate the rate of reforestation. (2) Fuel Levels and Fire Risk—Lowering fuel loadings to a level that reduces the likelihood of stand-replacement fire in regenerated stands, particularly during the early stages of stand development, would promote the long-term survival and growth of new conifers. The impacts to soils from another fire could be severe with the current amount of dead wood that would become surface fuel. A fire in heavy surface fuels could increase the duration of elevated temperatures during a fire event to levels capable of altering soil properties and affecting site productivity. (3) Management of Newly Established Forest—Many forested stands within the fire area were overly dense where they had not been recently managed. It is predicted most of the dead trees will fall by the time regenerated stands are ready to be thinned. Removing the dead trees now would facilitate active management within new stands, accelerating growth and vigor of the trees.

The remainder of the fire (approximately 9,000 acres or 45%) occurred in Matrix or Administratively Withdrawn allocations, or was outside the Northwest Forest Plan area. Fire intensity was categorized as high or moderate over about 5,500 acres. The purpose of the salvage in these areas is similar to the purpose of salvage in the LSR, but with more emphasis on recovering the economic value of merchantable timer from trees that were killed or severely damaged. Reduction of fuels remaining on site would benefit the establishing stands at the next entry of fire.

Proposed Action. This action includes salvage of commercial timber on approximately 6,570 acres. Fuels reduction (approximately 13,000 acres) and reforestation (approximately 15,6000 acres) are also proposed across the fire area, including the areas of commercial salvage. Salvage is proposed in ares that burned the most intense where tree mortality is certain. Fuels reduction activities would include cutting of non-commercial small diameter trees, mechanical and/or hand piling of material, and disposal of piles by either utilization or burning. The proposal includes less than 5 miles of construction of temporary roads necessary to provide access for salvage operations. Any temporary roads constructed would be obliterated following their use. No new permanent road construction is proposed.

Scoping. Public participation will be sought at several points during the analysis, including listing of this project in the Fall 2003 and subsequent issues of the Central Oregon Schedule of Projects and on the Deschutes National Forest website. Also, correspondence with agencies, organizations, tribes, and individuals who have indicated their interest would be conducted.

Issues. Preliminary issues identified include the potential effect of the proposed action on: soil productivity; water quality and fish habitat; wildlife habitat (especially threatened and endangered species); snags and down wood habitat; cultural resources; views along a designated scenic byway; and noxious weeds. A No Action alternative will be analyzed in the EIS. Other alternatives would result from the scoping process and refined issues.

Comment. Public comments about this proposal are requested in order to assist in identifying issues, determine how to best manage the resources, and to focus the analysis. Comments received to this notice, including names and addresses of those who comment, will be considered part of the public record on this proposed action and will be available for public inspection. Comments submitted anonymously will be accepted and considered; however, those who submit anonymous comments will not have standing to appeal the subsequent decision under 36 CFR parts 215 and 217. Additionally, pursuant to 7 CFR 1.27(d), any person may request the agency to withhold a submission from the public record by showing how the Freedom of Information Act (FOIA) permits such confidentiality. Persons requesting such confidentiality should be aware that, under FOIA, confidentiality may be granted in only very limited circumstances, such as to protect trade secrets. The Forest Service will inform the requester of the agency's decision regarding the request for confidentiality, and where the request is denied, the agency will return the submission and notify the requester that the comments may be resubmitted with or without name and address within a specified number of days.

A draft EIS will be filed with the Environmental Protection Agency (EPA) and available for public review by January 2003. The EPA will publish a Notice of Availability (NOA) of the draft EIS in the Federal Register. The comment period on the draft EIS will be 45 days from the date EPA publishes the notice of availability in the Federal Register. The final EIS is scheduled to be available April 2004.

The Forest Service believes, at this early stage, it is important to give reviewers notice of several court rulings related to public participation in the environmental review process. First, reviewers of a draft EIS must structure their participation in the environmental review of the proposal so that it is meaningful and alerts an agency to the reviewer's position and contentions [Vermont Yankee Nuclear Power Corp. v. NRDC, 435 U.S. 519, 553 (1978)]. Also, environmental objections that could be raised at the draft EIS stage but that are not raised until after completion of the final EIS may be waived or dismissed by the courts [City of Angoon v. Hodel, 803 F.2d 1016, 1022 (9th Cir. 1986) and Wisconsin Heritages, Inc. v. Harris, 490 F. Supp. 1334, 1338 (E.D. Wis. 1980)]. Because of these court rulings, it is very important that those interested in this proposed action participate by the close of the 45-day comment period so that substantive comments and objections are made available to the Forest Service at a time when it can meaningfully consider them and respond to them in the final EIS.

To assist the Forest Service in identifying and considering issues and concerns on the proposed action, comments on the draft EIS should be as specific as possible. It is also helpful if comments refer to specific pages or chapters of the draft statement. Comments may also address the adequacy of the draft EIS or the merits of the alternatives formulated and discussed in the statement. Reviewers may wish to refer to the Council on Environmental Quality Regulations for implementing the procedural provisions of the National Environmental Policy Act at 40 CFR 1503.3 in addressing these points.

In the final EIS, the Forest Service is required to respond to substantive comments received during the comment period for the draft EIS. The Forest Service is the lead agency and the responsible official is the Forest Supervisor, Deschutes National Forest. The responsible official will decide where, and whether or not to salvage timber, reduce fuels, and reforest the area. The responsible official will also decide how to mitigate impacts of these actions and will determine when and how monitoring of effects will take place.

The Davis Fire Recovery decision and the reasons for the decision will be documented in the record of decision. That decision will be subject to Forest Service Appeal Regulations (36 CFR Part 215).

Dated: September 10, 2003.
Kevin Martin,
Deputy Forest Supervisor.

[FR Doc. 03-23679 Filed 9-16-03; 8:45 am]

BILLING CODE 3410-11-M